DEPARTMENT OF TRANSPORTATION

Federal Aviation Administration

[Docket No. FAA-2022-1315]

Notice of Passenger Facility Charge (PFC) Approvals and Disapprovals

AGENCY: Federal Aviation Administration (FAA), Department of Transportation.

ACTION: Notice of availability.

SUMMARY: The FAA will make available Passenger Facility Charge (PFC) approvals and disapprovals online under the provisions of the Aviation Safety and Capacity Expansion Act of 1990.

FOR FURTHER INFORMATION CONTACT: Julieann Dwyer, (202) 267-8375, julieann.dwyer@faa.gov.

SUPPLEMENTARY INFORMATION: The FAA is responsible for providing notice of PFC approvals and disapprovals. The FAA has not published the information required since early 2015. To remedy this oversight and to provide the public with a current list of PFC approvals, the FAA will make this information available on the FAA website at: https://www.faa.gov/airports/pfc/decisions. Notices of PFC approvals and disapprovals, beginning with those dating to February 2015, will be available.

Issued in Washington, DC, on: February 1, 2023.
Julieann T. Dwyer,
Manager, Airports Policy Branch.

[FR Doc. 2023-02465 Filed 2-3-23; 8:45 am]

BILLING CODE 4910-13-P